DEPARTMENT OF ENERGY

Federal Energy Regulatory Commission

[Docket Nos. IC24-23-000]

Commission Information Collection Activities (FERC-725A); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-725A (Mandatory Reliability Standards for the Bulk-Power System). There are no changes to the information collection. The 60-day notice comment period ended on October 15, 2024, with no comments received.

DATES: Comments on the collection of information are due December 9, 2024.

ADDRESSES: You may submit copies of your comments (identified by Docket No. IC24-23-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Doug Reimel may be reached by email at DataClearance@FERC.gov, telephone at (202) 502-6461.

SUPPLEMENTARY INFORMATION:

Title: FERC-725A (Mandatory Reliability Standards for the Bulk-Power System).

OMB Control No.: 1902-0244.

Type of Request: Three-year extension of the FERC-725A information collection requirements with no changes to the current reporting requirements.

Abstract: On August 8, 2005, the Electricity Modernization Act of 2005, which is title XII, subtitle A, of the Energy Policy Act of 2005 (EPAct 2005), was enacted into law.¹ EPAct 2005 added a new section 215 to the FPA, which requires a Commission-certified electric reliability organization (ERO) (FERC-725) to develop mandatory and enforceable Reliability Standards, which are subject to Commission review and approval. Once approved, the Reliability Standards may be enforced by the ERO, subject to Commission oversight or the Commission can independently enforce Reliability Standards (FERC-725A).²

¹ Energy Policy Act of 2005, Public Law 109-58, title XII, subtitle A, 119 Stat. 594, 941 (2005), to be codified at 16 U.S.C. 824o.

² 16 U.S.C. 824o(e)(3).

On February 3, 2006, the Commission issued Order No. 672, implementing section 215 of the FPA.³ Pursuant to Order No. 672, the Commission certified one organization, NERC, as the ERO.⁴ The ERO is required to develop Reliability Standards, which are subject to Commission review and approval. The Reliability Standards will apply to users, owners, and operators of the Bulk-Power System, as set forth in each Reliability Standard.

³ Rules Concerning Certification of the Electric Reliability Organization; Procedures for the Establishment, Approval and Enforcement of Electric Reliability Standards, Order No. 672, 71 FR 8662 (February 17, 2006), FERC Stats. & Regs. ¶ 31,204 (2006), order on reh'g, Order No. 672-A, 71 FR 19814 (April 18, 2006), FERC Stats. & Regs. ¶ 31,212 (2006).

⁴ North American Electric Reliability Corp., 116 FERC ¶ 61,062 (ERO Certification Order), order on reh'g & compliance, 117 FERC ¶ 61,126 (ERO Rehearing Order) (2006), order on compliance, 118 FERC ¶ 61,030 (2007) (January 2007 Compliance Order).

On March 16, 2007, the Commission issued Order No. 693, a Final Rule adding part 40, a new part, to the Commission's regulations. The Final Rule states that this part applies to all users, owners, and operators of the Bulk-Power System within the United States (other than Alaska or Hawaii). It also requires that each Reliability Standard identify the subset of users, owners, and operators to which that particular Reliability Standard applies. The new regulations also require that each Reliability Standard that is approved by the Commission will be maintained on the ERO's internet website for public inspection.

In order for the Commission to perform its oversight function with regard to Reliability Standards that are proposed by the ERO, it is essential that the Commission receives timely information regarding all or potential violations of Reliability Standards. While section 215 of the FPA contemplates the filing of the record of an ERO or Regional Entity enforcement action, FERC needs information regarding violations and potential violations at or near the time of occurrence. Therefore, it will work with the ERO and regional reliability organizations to be able to use electronic filing of information, so the Commission receives timely information. The new regulations also require that each Reliability Standard that is approved by the Commission will be maintained on the ERO's internet website for public inspection.

In accordance with section 39.5 of the Commission's regulations, the ERO must file each Reliability Standard or a modification to a Reliability Standard with the Commission. The filing is to include a concise statement of the basis and purpose of the proposed Reliability Standard, either a summary of the Reliability development proceedings conducted by the ERO or a summary of the Reliability Standard development proceedings conducted by a Regional Entity together with a summary of the Reliability Standard review proceedings of the ERO and a demonstration that the proposed Reliability Standard is “just, reasonable, not unduly discriminatory or preferential, and in the public interest.

The existing burden inventory for the entire FERC-725A collection is estimated at 1,103,040 burden hours (table 1). FERC-725A contains the information collection requirements for nearly all of the US wide Reliability Standards. The collection started in 2007 when FERC approved 83 Reliability Standards with an estimated 1,252,680 burden hours. Since that time, NERC has revised many of the original standards (as well as proposed new standards) resulting in many incremental additions to the total burden hours. Additionally, over time FAC-003, FAC-008, PER-003; INT-006; INT-009; TOP-001, TOP-002, TOP-003, TOP-010 revisions were captured in 725A collection. In August 2024, the associated manhours and cost for PER-003-2 are being relocated from 725A into 725Y (table 2). This change will not result in change in the number of respondents in 725A as the same group of responsible entities have other obligation under 725A but the associated cost per entity will decrease slightly overall (table 3).

In an effort to target similar NERC Reliability Standards by family in this 725A renewal, manhours associated with two FAC (Facilities) Reliability Standards (FAC-008-5 and FAC-003-2) will be retired from 725A and then added to the 725D, where other FAC standards are collected. This should facilitate future three-year renewal efforts and more accurate tracking of for the FAC Reliability Standards.

In an effort to target similar NERC Reliability Standards by family in this 725A renewal, manhours associated with three PRC (Protection and Control) Reliability Standards (PRC-008-0, PRC-011-0, and PRC-017-1) will be retired from 725A Bulk-Power System and then added to the 725G, where other PRC standards are collected. This should facilitate future three-year renewal efforts and more accurate tracking of for the PRC Reliability Standards.

PRC-008 (Underfrequency and Documentation of Underfrequency Load Shedding Equipment Maintenance Program) represents responsibility of TOs and GOs to create and follow their maintenance program to ensure that underfrequency relays operate when needed to drop system load to preserve the BES. PRC-011-0 (Undervoltage Load Shedding (UVLS) System Maintenance and Testing) identifies that TOs and DPs that own a UVLS system to create and follow their maintenance program to ensure that undervoltage relays operate when needed to drop system load to preserve volage collapse or voltage instability. Not every TO or DP has a UVLS program, staff is estimating that half of the registered TOs and DPs need to follow PRC-011-0. PRC-017-1 (Remedial Action Scheme (RAS) Maintenance and Testing) System Maintenance and Testing) identifies that TOs, DPs, GOs that their RASs are properly designed, meet expected performance, and are coordinated with other protection systems.⁵ The maintenance and testing programs for RAS are reviewed by engineers and when a relay mis-operations occurs the RAS is reviewed and corrected. PRC-008-0 and PRC-011-0 have been in-service since April 2005 and PRC-017-1 was revised in November 2015.

⁵ RAS are automatic protection systems designed to detect abnormal or predetermined system conditions and take corrective actions other than and/or in addition to the isolation of faulted components to maintain system reliability.

Estimate of Annual Burden: ⁶ The Commission estimates the burden and cost for this information collection as follows.

⁶ Burden is defined as the total time, effort, or financial resources expended by persons to generate, maintain, retain, or disclose or provide information to or for a federal agency. For further explanation of what is included in the information collection burden, refer to 5 CFR part 1320.

IC24-23-000 Renewal of 725A

The following table represents the current burden associated with all Mandatory Reliability Standards that fall under FERC-725A.

⁷ This is a list of NERC registered entities who under 725A need to follow the NERC Standards. BA=Balancing Authority (98); DP = Distribution Provider (371); GP = Generator Owner (1,210); Generator Operator (1028); PA/PC Planning Authority/Planning Coordinator (62); RC=Reliability Coordinator (12); RP = Resource Planner (159); RSG = Reserve Sharing Group (8); FRSG = Frequency Response Sharing Group (1); TO = Transmission Owner (324); TOP = Transmission Operator (165); TP = Transmission Provided (203); TSP = Transmission Service Provider (70); for a sum total of (3,711). The same entity may have multiple registration obligation to follow under 725A, so an individual entity's obligation increases based on registration functions. These values were derived from the NERC Compliance data of April 16, 2024, using only unique United States registered entities.

⁸ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

⁹ For PER-003-2: RC = Reliability Coordinator; BA = Balancing Authority; TOP = Transmission Operator; TO = Transmission Owner; GOP = Generator Operator. The NERC compliance registry table April 16, 2024, was used to perform analysis.

¹⁰ The estimated hourly cost (salary plus benefits) is a combination based on the Bureau of Labor Statistics (BLS), as of 2024. The estimates for cost per response are loaded hourly wage figure (includes benefits) based on two occupational categories for 2023 found on the Bureau of Labor Statistics website (http://www.bls.gov/oes/current/naics2_22.htm): Electrical Engineer (Occupation Code: 17-2071): $79.31 (to calculate the reporting requirements); Office and Administrative Support (Occupation Code: 43-0000): $48.59 (to calculate the recordkeeping requirements).

¹¹ These values were derived from the NERC Compliance data of April 16, 2024, using only unique United States registered entities.

¹² The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Original 725 A IC24-23-000-From 60-Day Notice
| Number and type of respondents | Annual number of responses per respondent | Total number of responses | Avg. burden & cost per response ⁸ | Total annual burden hours & total annual cost ($) | Cost per respondent ($)
| (1) ⁷ | (2) | (1) * (2) = (3) | (4) | (3) * (4) = (5) | (5) ÷ (1)
Annual Review of 725A | 3,711 | 1 | 3,711 | 379.21 hrs., $26,798.77 | 1,407,238 hrs., $99,449,509.46 | $26,798.77
Total |  |  |  |  | 1,407,238 hrs., $99,449,509.46

Original 725 A Moving to FERC-725Y in Docket No. IC24-16-000 Reliability Standard PER-003-2
| Number and type of respondents ⁹ | Annual number of responses per respondent | Total number of responses | Avg. burden & cost per response ¹⁰ | Total annual burden hours & total annual cost ($) | Cost per respondent ($)
| (1) | (2) | (1) * (2) = (3) | (4) | (3) * (4) = (5) | (5) ÷ (1)
Annual Review of Credentials | 12 (RC) | 1 | 12 | 60 hrs., $4,758.60 | 720 hrs., $57,103.20 | $4,758.60
| 98 (BA) | 1 | 98 | 60 hrs., $4,758.60 | 5,880 hrs., $466,342.80 | 4,758.60
| 165 (TOP) | 1 | 165 | 60 hrs., $4,758.60 | 9,900 hrs., $785,169 | 4,758.60
Record Retention | (RC, BA, TOP) 275 | 1 | 275 | 60 hrs., $2,915.40 | 16,500 hrs., $801,735 | 2,915.40
Total |  |  |  |  | 33,000 hrs., $2,110,350

FAC-008-5 Transfer From FERC 725A to FERC 725D
| Number of entity ¹¹ | Number of annual responses per entity | Total number of responses | Average number of burden hours per response ¹² | Total burden hours
| (1) | (2) | (1) * (2) = (3) | (4) | (3) * (4) = (5)
FERC-725A Decrease
Annual review and record retention | 324 (TO) | 1 | 324 | 200 hrs., $ 70.67/hrs | 64,800 hrs., −$4,579,416.
| 1210 (GO) | 1 | 1210 | 80 hrs., $ 70.67/hrs | 96,800 hrs., $6,840,856.
Total Reduction in 725A for FAC-008-5 |  |  |  |  | 161,600 hrs., $11,420,272.

FAC-003-2 Transfer From FERC 725A to FERC 725D
| Number of entity¹³ | Number of annual responses per entity | Total number of responses | Average number of burden hours per response¹⁴ | Total burden hours
| (1) | (2) | (1) * (2) = (3) | (4) | (3) * (4) = (5)
FERC-725A Decrease
Annual review and record retention | 324 (TO) | 1 | 324 | −24 hrs., $ 70.67/hrs | −7,776 hrs., −$549,529.92.
Total Reduction in 725A for FAC-003-2 |  |  |  |  | −7,776 hrs., −$549,529.92.

PRC-008-0 Transfer From 725A to 725G
| Number of entity ¹⁵ | Number of annual responses per entity | Total number of responses | Average number of burden hours per response ¹⁶ | Total burden hours
| (1) | (2) | (1) * (2) = (3) | (4) | (3) * (4) = (5)
FERC-725A Reduction
Annual review and record retention | 324 (TO) | 1 | 324 | −24 hrs., −$1,696.08/hr | −7,776 hrs., −$549,529.92.
| 371 (DP) | 1 | 371 | −24 hrs., −$1,696.08/hr | −8,904 hrs., −$629,245.68.
Total Reduction in 725A for PRC-008-0 |  |  |  |  | −18,680 hrs., −$1,178,775.60.

PRC-011-0 Transfer From FERC 725A to FERC 725G ¹⁷
Reliability standard & requirement | Number of entity ¹⁸ | Number of annual responses per entity | Total number of responses | Average number of burden hours per response ¹⁹ | Total burden hours
| (1) | (2) | (1) * (2) = (3) | (4) | (3) * (4) = (5)
FERC-725A Reduction
Annual review and record retention | 162 (TO) | 1 | 162 | −24 hrs., $1,696.08/hr | −3,888 hrs., −$274,764.96.
| 181 (DP) | 1 | 181 | −24 hrs., −$1,696.08/hr | −4,344 hrs., −$306,990.48.
Total Reduction in 725A for PRC-011-0 |  |  |  |  | −8,232 hrs., −$581,755.44.

¹³ These values were derived from the NERC Compliance data of April 16, 2024, using only unique United States registered entities.

¹⁴ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

¹⁵ These values were derived from the NERC Compliance data of April 16, 2024, using only unique United States registered entities.

¹⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

¹⁷ For PRC-011-0 (Undervoltage Load Shedding System Maintenance and Testing) Reliability Standard, not ever applicable TO (324) and DP (371) have UVLS programs. Staff estimates that fifty percent of the TOs and DPs need to follow PRC-011-0, so the number of entities will be TO (162) and DP (181).

¹⁸ These values were derived from the NERC Compliance data of April 16, 2024, using only unique United States registered entities. For PRC-011-0 only half of the TO = Transmission Owner (324/2 = 162) and DP = Distribution Provider (371/2 = 180.5, rounded to 181).

¹⁹ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

PRC-017-1 Transfer From FERC 725A to FERC 725G
| Number of entity ²⁰ | Number of annual responses per entity | Total number of responses | Average number of burden hours per response ²¹ | Total burden hours
| (1) | (2) | (1) * (2) = (3) | (4) | (3) * (4) = (5)
FERC-725A Reduction
Annual review and record retention | 324 (TO) | 1 | 324 | −80 hrs., −$5,653.60/hr | −25,920 hrs., −$1,831,766.40.
| 371 (DP) | 1 | 371 | −24 hrs., −$1,696.08/hr | −8,904 hrs., −$629,245.68.
| 1,210 (GO) | 1 | 1,210 | −24 hrs., −$1,696.08/hr | −29,040 hrs., −$2,052,256.80.
Total Reduction in 725A for PRC-017-1 |  |  |  |  | −63,864 hrs., −$4,513,268.88.

725A Master
| Number of entity ²² | Number of annual responses per entity | Total number of responses | Average number of burden hours per response ²³ | Total burden hours
| (1) | (2) | (1) * (2) = (3) | (4) | (3) * (4) = (5)
FERC-725A
INT-006-5 | 168 (BA, TSP) | 1 | 168 | 120 hrs., $8,480.40 | 20,160 hrs., $1,424,707.20.
INT-009-3 | 98 (BA) | 1 | 98 | 120 hrs., $8,480.40 | 11,760 hrs., $831,079.20.
TOP-001-6 | 1,567 (BA, TOP, GOP, DP) | 1 | 1567 | 120 hrs., $8,480.40 | 188,040 hrs., $13,288,787.80.
TOP-002-5 | 422 (TO, BA) | 1 | 422 | 120 hrs., $8,480.40 | 50,640 hrs., $3,578,728.80.
TOP-003-6.1 | 1,567 (BA, TOP, GOP, DP) | 1 | 1567 | 120 hrs., $8,480.40 | 188,040 hrs., $13,288,786.80.
TOP-010-1(i) | 422 (TO, BA) | 1 | 422 | 120 hrs., $8,480.40 | 50,640 hrs., $3,578,728.80.
725A BPS Record Keeping | 3,711 (All) | 1 | 3,711 | 160 hrs., $11,307.20 | 593,760 hrs., $41,961,019.20.
FERC 725A Total |  |  |  |  | 1,103,040 hrs., $77,951,836.80.

²⁰ These values were derived from the NERC Compliance data of April 16, 2024, using only unique United States registered entities.

²¹ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

²² This is a list of NERC registered entities who under 725A need to follow the NERC Standards. BA = Balancing Authority (98); DP = Distribution Provider (371); GP = Generator Owner (1,210); Generator Operator (1028); PA/PC Planning Authority/Planning Coordinator (62); RC=Reliability Coordinator (12); RP = Resource Planner (159); RSG = Reserve Sharing Group (8); FRSG = Frequency Response Sharing Group (1); TO = Transmission Owner (324); TOP = Transmission Operator (165); TP = Transmission Provided (203); TSP = Transmission Service Provider (70); for a sum total of (3,711). The same entity may have multiple registration obligation to follow under 725A, so an individual entity's obligation increases based on registration functions. These values were derived from the NERC Compliance data of April 16, 2024, using only unique United States registered entities.

²³ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Third table to show different from table 1 minus table 2.

Reliability standard & requirement | Number of entities ²⁴ | Number of annual responses per entity | Total number of responses | Average number of burden hours per response ²⁵ | Total burden hours
| (1) | (2) | (1) * (2) = (3) | (4) | (3) * (4) = (5)
FERC-725A—Reliability Standards being removed and transferred
Mandatory Reliability Standards for Bulk Power System | 3,711 | 1 | 3,711 | 379.21 hrs., $26,798.77 | 1,407,238 hrs., $99,449,509.46.
Determine facility ratings consistent with methodology, R6 Net Changes | −369 | 1 | −369 | −48 hrs | −17,712 hrs. (Reduction).
FAC-008-5 Net Changes | −1,003 | 1 | −1,003 | −418.86 hrs | −420,117 hrs. (Reduction).
FAC-003-2 Net Changes | −330 | 1 | −330 | −24 hrs | −1,760 hrs. (Reduction).
Mandatory Bulk-Power System: Reporting Net Changes | −251 | 1 | −251 | −2,782.53 hrs | −698,414 hrs. (Reduction).
TOP-002-5 (One-Time) Net Changes | −98 | 1 | −98 | −13.33 hrs | −1,306 hrs. (Reduction).
Total Net Changes |  |  |  |  | −510,736 hrs. removed/transferred + 206,538 hrs. Modified = 304,198 hrs.
Total for FERC-725A |  |  |  |  | 1,103,040 hrs., $77,951,836.80.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

²⁴ These values were derived from the NERC Compliance data of April 16, 2024, using only unique United States registered entities.

²⁵ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Dated: October 31, 2024.
Carlos D. Clay,
Acting Deputy Secretary.

[FR Doc. 2024-25847 Filed 11-6-24; 8:45 am]

BILLING CODE 6717-01-P